DEPARTMENT OF TRANSPORTATION

Federal Transit Administration

Limitation on Claims Against a Proposed Public Transportation Project

AGENCY: Federal Transit Administration (FTA), DOT.

ACTION: Notice.

SUMMARY: This notice announces final environmental actions taken by the Federal Transit Administration (FTA) for a project in Los Angeles, CA. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of FTA actions announced herein for the listed public transportation project will be barred unless the claim is filed on or before June 6, 2016.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA administrative record for the project. Interested parties may contact either the project sponsor or the relevant FTA Regional Office for more information. Contact information for FTA's Regional Offices may be found at http://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices for the Regional Connector Transit Corridor Project published in the Federal Register. The project and actions that are the subject of this notice are:

Project name and location: Regional Connector Transit Corridor Project, Los Angeles County, CA. Project sponsor: Los Angeles County Metropolitan Transportation Authority (LACMTA). Project description: The proposed project would provide a 1.9-mile direct connection of light rail transit service from the Metro Gold Line Little Tokyo/Arts District Station to the 7th Street/Metro Center Station in downtown Los Angeles. The project would allow passengers to transfer to Blue, Expo, Red, and Purple Lines, bypassing Union Station and providing a one-seat ride for travel across Los Angeles County. In January 2012, FTA and LACMTA prepared and distributed a Final Environmental Impact Statement/Environmental Impact Report (Final EIS/EIR) for the project. On June 29, 2012, FTA issued a Record of Decision (ROD) for the project. Subsequently, the Final EIS/EIR and ROD were challenged in federal court. Final Judgment was entered on October 24, 2014, partially in favor of Flower Associates and partially in favor of the Defendants (“NEPA Judgment”). The NEPA Judgment partially vacated the June 29, 2012 ROD and directed the FTA to prepare a supplemental analysis under NEPA addressing the feasibility of open-face shield and sequential excavation method tunneling alternatives under South Flower Street south of 4th Street in the Financial District. See, Today's IV, Inc. v. Federal Transit Administration, et al. (U.S. District Court, Central District of California, Western Division, Case No. 2:13-CV-00378) and 515/555 Flower Associates, LLC v. Federal Transit Administration, et al. (U.S. District Court, Central District of California, Western Division, Case No. 2:13-CV-00453). Pursuant to the Court's decision, FTA and LACMTA prepared additional analysis for the project, specifically draft and final versions of a Supplemental Environmental Impact Statement (SEIS). The SEIS was limited in its scope and analyzed in detail two additional tunnel construction alternatives along Flower Street from 4th Street to 7th Street, as required by the Court's Order. FTA issued the Final SEIS concurrently with a Supplemental ROD per 23 U.S.C. Section 139(n)(2)(A), as amended by the Fixing America's Surface Transportation Act, Public Law 114-94. This notice only applies to this discrete action taken by FTA. Nothing in this notice affects FTA's previous decisions, or notice thereof, for this project. Final agency actions: Supplemental Record of Decision, dated December 16, 2015. Supporting documentation: Final Supplemental Environmental Impact Statement, dated December 2015.

Lucy Garliauskas,
Associate Administrator Planning and Environment.

[FR Doc. 2016-00035 Filed 1-6-16; 8:45 am]

BILLING CODE P